DEPARTMENT OF THE INTERIOR

Bureau of Land Management

[LLOR936000-L14300000-ET0000; FUND 13XL1109AF; HAG-13-0116; OR-46473]

Public Land Order No. 7810; Extension of Public Land Order No. 6963; Oregon

AGENCY: Bureau of Land Management, Interior.

ACTION: Public Land Order.

SUMMARY: This order extends the duration of the withdrawal created by Public Land Order No. 6963, as amended, for an additional 20-year period. The extension is necessary to continue protection of the natural values of the Florence Sand Dunes located in Lane County, Oregon, which would otherwise expire on April 12, 2013.

DATES: Effective Date: April 13, 2013.

FOR FURTHER INFORMATION CONTACT: Michael L. Barnes, Bureau of Land Management, Oregon/Washington State Office, 503-808-6155, or Tracy Maahs, Bureau of Land Management, Eugene District Office, 541-683-6376. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: The purpose for which the withdrawal was first made requires this extension to continue the protection of the Florence Sand Dunes. The withdrawal extended by this order will expire on April 12, 2033, unless as a result of a review conducted prior to the expiration date pursuant to Section 204(f) of the Federal

Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6963 (58 FR 19212 (1993)), as amended (77 FR 65906 (2012)), which withdrew approximately 250.66 acres of public lands from settlement, sale, location, or entry under the general land laws, including the United States mining laws (30 U.S.C. Chapter 2), but not from leasing under the mineral leasing laws, to protect the Florence Sand Dunes, is hereby extended for an additional 20-year period until April 12, 2033.

Dated: March 29, 2013.
Rhea S. Suh,
Assistant Secretary—Policy, Management and Budget.

[FR Doc. 2013-08759 Filed 4-12-13; 8:45 am]

BILLING CODE 4310-33-P